FEDERAL ELECTION COMMISSION

Sunshine Act Notices

Date and Time: Thursday, March 4, 2004, at 10 a.m.

Place: 999 E Street, NW., Washington, DC (ninth floor).

Status: This meeting will be open to the public.

Items to be Discussed: Correction and approval of minutes.

Notice of proposed rulemaking on political committee status.

Routine administrative matters.

* * * * *

Date and Time: Tuesday, March 9, 2004, at 10 a.m.

Place: 999 E Street, NW., Washington, DC.

Status: This meeting will be closed to the public.

Items to be Discussed: Compliance matters pursuant to 2 U.S.C. 437g.

Audits conducted pursuant to 2 U.S.C. 437g, 438(b), and title 26, U.S.C.

Matters concerning participation in civil actions or proceedings or arbitration.

Internal personnel rules and procedures or matters affecting a particular employee.

* * * * *

Person to Contact for Information: Robert Biersack, Acting Press Officer. Telephone: (202) 694-1220.

Mary W. Dove,
Secretary of the Commission.

[FR Doc. 04-4353 Filed 2-24-04; 11:12 am]

BILLING CODE 6715-01-M